DEPARTMENT OF STATE

[Public Notice 5249]

Determination and Waiver of Section 517(a) of the Foreign Operations, Export Financing, and Related Programs Appropriations Act (2006) (Pub. L. 109-102) Relating to Assistance for the Independent States of the Soviet Union

Pursuant to the authority vested in me as Deputy Secretary of State, including by Section 517(a) of the Foreign Operations, Export Financing, and Related Programs Appropriations Act, 2006 (Public Law 109-102), Executive Order 13118 of March 31, 1999, and State Department Delegation of Authority No. 245 of April 21, 2001, I hereby determine that it is in the national security interest of the United States to make available funds appropriated under the heading “Assistance for the Independent States of the Former Soviet Union” in Title II of that Act without regard to the restriction in that section.

This determination shall be reported to the Congress promptly and published in the Federal Register.

Dated: December 5, 2005.
Robert B. Zoellick,
Deputy Secretary of State, Department of State.

[FR Doc. 05-24276 Filed 12-16-05; 8:45 am]

BILLING CODE 4710-23-P